DEPARTMENT OF TRANSPORTATION

Federal Aviation Administration

14 CFR Part 39

[Docket No. 2003-CE-26-AD; Amendment 39-13316; AD 2003-19-13]

RIN 2120-AA64

Airworthiness Directives; Grob-Werke Model G120AA Airplanes

AGENCY: Federal Aviation Administration (FAA), DOT.

ACTION: Final rule.

SUMMARY: The FAA adopts a new airworthiness directive (AD) for all GROB-WERKE (GROB) Model G120A airplanes. This AD requires you to modify the flight control system operating levers. This AD is the result of mandatory continuing airworthiness information (MCAI) issued by the airworthiness authority for Germany. We are issuing this AD to prevent failure of a ball bearing in the flight control system operating levers. Such failure could lead to reduced control or loss of control of the airplane.

DATES: This AD becomes effective on November 11, 2003.

The Director of the Federal Register approved the incorporation by reference of certain publications listed in the regulation as of November 11, 2003.

ADDRESSES: You may get the service information identified in this AD from GROB Luft-und Raumfahrt, Lettenbachstrasse 9, D-86874 Tussenhausen-Mattsies, Germany; telephone: 011 49 8268 998139; facsimile: 011 49 8268 998200; email: productssupport@grob-aerospace.de. You may view the AD docket at FAA, Central Region, Office of the Regional Counsel, Attention: Rules Docket No. 2003-CE-26-AD, 901 Locust, Room 506, Kansas City, Missouri 64106. Office hours are 8 a.m. to 4 p.m., Monday through Friday, except Federal holidays.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Luftfahrt-Bundesamt (LBA), which is the airworthiness authority for Germany, recently notified FAA that an unsafe condition may exist on all GROB Model G120A airplanes. The LBA reports that a damaged ball bearing in a flight control system operating lever was found. The damage was found during regular maintenance. It is believed that the damage was caused by incorrect installation.

What is the potential impact if FAA took no action? If not corrected, this condition could cause failure of a ball bearing in affected flight control system operating levers. Such failure could result in reduced control or loss of control of the airplane.

Has FAA taken any action to this point? We issued a proposal to amend part 39 of the Federal Aviation Regulations (14 CFR part 39) to include an AD that would apply to all GROB Model G120A. This proposal was published in the Federal Register as a notice of proposed rulemaking (NPRM) on July 15, 2003 (68 FR 41760). The NPRM proposed to require you to modify the flight control system operating levers.

Was the public invited to comment? We provided the public the opportunity to participate in the development of this AD. We received no comments on the proposal or on the determination of the cost to the public.

Conclusion

What is FAA's final determination on this issue? We have carefully reviewed the available data and determined that air safety and the public interest require adopting the AD as proposed except for minor editorial corrections. We have determined that these minor corrections:

—Provide the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 6 airplanes in the U.S. registry.

What is the cost impact of this AD on owners/operators of the affected airplanes? We estimate the following costs to accomplish the modifications:

Labor cost | Parts cost | Total cost per airplane | Total cost on U.S. operators
10 workhours × $60 per hour = $600 | No cost for parts | $600 | 6 × $600 = $3,600.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-26-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-19-13 Grob-Werke: Amendment 39-13316; Docket No. 2003-CE-26-AD.

When Does This AD Become Effective?

(a) This AD becomes effective on November 11, 2003.

Are Any Other ADs Affected By This Action?

(b) None.

What Airplanes Are Affected by This AD?

(c) This AD affects the following airplane models and serial numbers that are certificated in any category:

Model | Serial Nos.
G120A | All.

What Is the Unsafe Condition Presented in This AD?

(d) This AD is the result of mandatory continuing airworthiness information (MCAI) issued by the airworthiness authority for Germany. The actions specified in this AD are intended to prevent failure of a ball bearing in the flight control system operating levers. Such failure could lead to reduced control or loss of control of the airplane.

What Must I Do To Address This Problem?

(e) To address this problem, you must accomplish the following:

Actions | Compliance | Procedures
(1) Inspect the flight control system operating levers for damaged ball bearings and replace any lever with a damaged ball bearing | Inspect within the next 50 hours time-in-service (TIS) after November 11, 2003 (the effective date of this AD). Replace levers with damaged ball bearings prior to further flight after the inspection | In accordance with GROB Service Bulletin No. MSB1121-033, dated May 8, 2003 (which includes Attachment 1, dated May 8, 2003).
(2) Accomplish the modifications to: (a) elevator rod 1, part number (P/N) 120A-4400.08 or part number 120A- 4217 (which supersedes P/N 120A- 4400.08); and (b) the flight control system operating levers. | Within the next 50 hours TIS after November 11, 2003 (the effective date of this AD) | In accordance with GROB Service Letter No. SL1121-009, dated May 23, 2003, and GROB Service Bulletin No. MSB1121-034, dated May 19, 2003 (which includes Attachment 1, dated May 19, 2003).
(3) Only install flight control system operating levers that have been modified in accordance with paragraph (e)(2)(a) and (e)(2)(b) of this AD | As of November 11, 2003 (the effective date of this AD) |

What About Alternative Methods of Compliance?

(f) You may request a different method of compliance or a different compliance time for this AD by following the procedures in 14 CFR 39.13. Send your request to the Manager, Standards Office, Small Airplane Directorate, FAA. For information on any already approved alternative methods of compliance, contact Karl Schletzbaum, Aerospace Engineer, FAA, Small Airplane Directorate, 901 Locust, Room 301, Kansas City, Missouri 64106; telephone: (816) 329-4146; facsimile: (816) 329-4090.

Is There Material Incorporated by Reference?

(g) Actions required by this AD must be done in accordance with GROB Service Letter No. SL1121-009, dated May 23, 2003; GROB Service Bulletin No. MSB1121-033, dated May 8, 2003 (which includes Attachment 1, dated May 8, 2003); and GROB Service Bulletin No. MSB1121-034, dated May 19, 2003 (which includes Attachment 1, dated May 19, 2003). The Director of the Federal Register approved the incorporation by reference of this service bulletin in accordance with 5 U.S.C. 552(a) and 1 CFR part 51.

You may get a copy from GROB Luft-und Raumfahrt, Lettenbachstrasse 9, D-86874 Tussenhausen-Mattsies, Germany; telephone: 011 49 8268 998139; facsimile: 011 49 8268 998200; email: productssupport@grob-aerospace.de. You may review copies at FAA, Central Region, Office of the Regional Counsel, 901 Locust, Room 506, Kansas City, Missouri 64106; or at the Office of the Federal Register, 800 North Capitol Street, NW., suite 700, Washington, DC.

Is There Other Information That Relates to This Subject?

(h) German AD 2003-164/2, dated May 22, 2003, also addresses the subject of this AD.

Issued in Kansas City, Missouri, on September 18, 2003.
David R. Showers,
Acting Manager, Small Airplane Directorate, Aircraft Certification Service.

[FR Doc. 03-24284 Filed 9-29-03; 8:45 am]

BILLING CODE 4910-13-P